DEPARTMENT OF AGRICULTURE

Forest Service

East Fredericktown Project, Mark Twain National Forest, Bollinger, Madison St. Francis, Ste. Genevieve Counties, MO

AGENCY: Forest Service, USDA.

ACTION: Notice; intent to prepare an environmental impact statement.

SUMMARY: The Forest Service will prepare an environmental impact statement (EIS) to analyze and disclose the environmental effects of proposed land management activities and corresponding alternatives within the East Fredericktown project area. The East Fredericktown project area is located on National Forest System lands administered by the Potosi/Fredericktown Ranger District east of Fredericktown, Missouri. The legal description of the project area is: Township 32 North, Range 7 East, Sections 11-13; Township 32 North, Range 8 East, Sections 3, 6-11, 15, 18, 19, 21-23, 25, 26, 34-36; Township 33 North, Range 8 East, Sections 3, 6-11, 15, 18, 19, 21-23, 25, 26, 34-36; Township 33 North, Range 8 East, Sections 29, 30, 35, 35; Township 34 North, Range 7 East, Sections, 12, 36; Township 34 North Range 8 East, Sections, 2-4, 9, 17, 19-21, 28-33; Township 35 North, Range 8 East, Sections 9, 11-14, 16, 19-30, 34-36; Township 35 North, Range 7 East, Section 24, Fifth Principal Meridian.

An EIS is being prepared for this project although years of experience have shown that the effects of implementing similar activities in the area are not significant. We do not feel that an EIS is required, however, due to the increase in appeals and litigation and for wise fiscal efficiency, an EIS will be prepared for the East Fredericktown Project.

The purpose of this project is to implement land management activities that are consistent with the direction in the Mark Twain Land and Resource Management Plan (Forest Plan) and to respond to specific needs identified in the project area. The project-specific needs include: emphasizing the management of shortleaf pine in its natural range on sites where it is recognized as a dominant or characteristic member of the natural community and examining opportunities to minimize adverse impacts from insects and disease on forest vegetation. Other needs include wildlife habitat maintenance and improvement, recreation management, examining road system needs, cleanup of illegal dumps, and associated or connected actions.

DATES: Comments concerning the proposed land management activities should be received within 30 days following publication of this notice to receive timely consideration in the preparation of the draft EIS.

ADDRESSES: Send written comments and suggestions on the proposed action or request to be placed on the project mailing list to: Katherine W. Stuart, District Ranger, Potosi/Fredericktown Ranger District, PO Box 188, Potosi, Missouri, 63664. E-mail should have a subject line that reads “nepa potosi fred'town” and be sent to: mailroom_r9_mark_twain@fs.fed.us.

FOR FURTHER INFORMATION CONTACT: Tom McGuire, Project Leader/Integrated Resource Analyst, Potosi/Fredericktown Ranger District, PO Box 188, Potosi Missouri 63664, phone (573) 438-5427.

SUPPLEMENTARY INFORMATION: The information presented in this notice is included to help the reviewer determine if they are interested in or potentially affected by the proposed land management activities. The information presented in this notice is summarized. Those who wish to provide comments, or are otherwise interested in or affected by the project, are encouraged to obtain additional information from the contact identified in the For Further Information Contact Section.

The shortleaf pine community on the Mark Twain National Forest is unique to the southeastern United States and exists nowhere else in the world. Although shortleaf pine is at the northern edge of its range in the southern Missouri Ozarks, it actually achieves its optimum growth rate here. Although shortleaf pine occurs as a co-dominant in other areas of the country, it is the only native pine species in the Missouri Ozarks and the dominant member of the pine community. Historically, shortleaf pine covered almost 6.6 million acres in the Missouri Ozark Highlands but only 10% of that remains today.

As pine was removed from many of the stands during harvest in the 1920s, scarlet and black oaks replaced the more resilient shortleaf pine. Scarlet and black oaks are relatively short-lived species and have been under drought stress in recent years. These drought stresses, coupled with aging stands, and/or defoliation have led to a phenomenon known as oak decline. Oak decline effects range from partial crown dieback to tree mortality.

Proposed Actions

Objectives of the proposed action are to increase the proportion of shortleaf pine in the project area, increase the growth rate of both young and mature pine trees, increase the spacing between trees to open the canopy and allow sunlight to reach the ground, increase the percentage and diversity of native herbaceous ground vegetation, and enhance people's enjoyment of the pine woodlands through various recreation opportunities.

Objectives also include treating area of tree mortality and oak decline and to encourage development of more resilient and diverse mixtures that include shortleaf pine. Part of the analysis will focus on determining the appropriate road system for this project area to support various resource and recreation needs.

The proposed land management activities (proposed actions) include the following, with approximate acreage and road miles estimations:

1. Seed tree harvests (850 acres).

2. Shelterwood harvest (1543 acres).

3. Uneven-aged management (UAM) (362 acres).

4. Overstory removal (65 acres).

5. Thinning and sanitation cuts (1230 acres).

6. Natural reforestation (2666 acres).

7. Timber stand improvement to include release (173 acres).

8. Crop tree release (1607 acres).

9. Prescribed fire for wildlife habitat improvement, wildlife habitat restoration, and hazardous fuels reduction (2327 acres).

10. Designation of old growth habitat (1608 acres).

11. Clean up of illegal garbage dumps where they are encountered.

12. Relocation of the portion of the Audubon Trail currently located in the floodplain of Bidwell Creek and construct two trailheads.

13. Reconstruction and maintenance of 37 miles of roads to accomplish items listed above. Some roads are also being evaluated for addition to the system, or for closure and obliteration.

While the primary focus of the analysis is to identify activities to accomplish ecological restoration, other activities that enhance recreational opportunities, result in better water quality, or move the area toward the Forest Plan's desired future condition (Forest Plan pages IV 125-131) may also be considered in the draft and/or final EIS.

The scope of this analysis is limited to those activities related to the purpose and need and measures necessary to mitigate the effects these activities may have on the environment. The decision will include if, when, how, and where to schedule restoration activities, recreation opportunity enhancement, interpretive activities, water quality improvement actions, resource protection measures, monitoring, and other follow-up activities.

Decision Space

Decision making will be limited to activities relating to the proposed actions. The primary decision to be made will be whether or not to implement the proposed actions listed above, a no-action alternative, or another action alternative that responds to the project's purpose and needs.

Preliminary Issues

Preliminary comments made by the interdisciplinary team were considered in the development of the tentative or preliminary issues. These are as follows: restoration of shortleaf pine on sites where it was historically dominant; reduction of vulnerability of forest stands to threats such as insects, disease, competition from non-native species, and catastrophic wildfire; protection of soils, water, and geological features from degradation caused by non-system roads, dump sites, especially near streams, and protecting riparian corridors and special areas such as the Artesian well, glades, springs, fens, caves, and cliffs; reduction of hazardous fuels build-up and the number of hazard trees that are threats to the public and adjoining landowners; provide lumber and firewood for the local community, enhancing wildlife habitat by creating openings, restoring open woodland habitats and designating old growth and retaining hollow and cull trees in treatment areas.

Public Participation

The Forest Service will be seeking information, comments, and assistance from Federal, State, and local agencies, the Osage Tribe, and other individuals or organizations that may be interested in or affected by the proposed actions. Comments received in response to this notice will become a matter of public record. While public participation in this analysis is welcome at any time, comments on the proposed actions received within 30 days of the publication of this notice will be especially useful in the preparation of the draft EIS. Timely comments will be used in preparation of the draft EIS. The scoping process will be used to: Identify potential issues; identify additional alternatives to the proposed action; and, identify potential environmental effects of the proposed action and alternatives (i.e., direct, indirect, and cumulative effects). In addition, the public is encouraged to visit with Forest Service officials at any time during the analysis and prior to the decision.

Estimated Dates for Filing

The draft EIS is expected to be filed with the Environmental protection Agency and available for public review in September 2003. A 45-day comment period will follow publication of a Notice of Availability of the draft EIS in the Federal Register. Comments received on the draft EIS will be analyzed and considered in preparation of a final EIS, expected in December 2003. A record of Decision (ROD) will also be issued at that time along with the publication of a Notice of Availability of the final EIS and ROD in the Federal Register.

Reviewers Obligation To Comment

The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F. Supp. 1334, 1338 (E.D. Wis., 1980). Because of these court rulings, it is very important that those interested in this proposed action participate by the close of the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Responsible Official

The responsible official for this environmental impact statement is Ronnie Raum, Forest Supervisor, Mark Twain National Forest.

Dated: April 14, 2003.
Katherine W. Stuart,
District Ranger, Potosi/Fredericktown Ranger District, Mark Twain National Forest.

[FR Doc. 03-10428 Filed 4-28-03; 8:45 am]

BILLING CODE 3410-11-M